DEPARTMENT OF JUSTICE

Notice of Lodging of Consent Decree Under the Clean Water Act

On September 30, 2016, the Department of Justice lodged a proposed Consent Decree and Judgment (“Consent Decree”) with the United States District Court for the Eastern District of New York in the lawsuit entitled United States v. The New York Racing Association, Inc., Civil Action No. CV-16-5442.

The United States filed a complaint in this action on the same day that the consent decree was lodged with the Court. The defendant is The New York Racing Association, Inc. (“Defendant”), located at 110-00 Rockaway Boulevard, Jamaica, New York, 11417. The complaint arises out of Defendant's operation of Aqueduct Racetrack in Ozone Park, New York, where it races, boards and feeds horses. The complaint alleges that Defendant, in the course of operation of Aqueduct Racetrack, violated the Clean Water Act (“CWA”), 33 U.S.C. 1311, 1319(b) and (d), and 33 U.S.C. 1342, as well as the conditions of Defendant's concentrated animal feeding operations General Permit issued under New York's State Pollutant Discharge Elimination System (“SPDES”) by discharging process wastewater, including animal wash water containing detergent, manure, and feed waste, into New York City's and New York State's storm sewer systems, which then flowed to tributaries of Jamaica Bay, which are navigable waters of the United States. The Complaint alleges claims for relief based on the following violations: (1) Unauthorized discharges of pollutants in violation of the CWA, 33 U.S.C. 1311(a); (2) unauthorized discharge of process wastewater to surface waters in violation of the CWA, 33 U.S.C. 1311(a), and Defendant's SPDES Permit; and (3) insufficient action to ensure clean water was excluded from concentrated waste areas in violation of the CWA, 33 U.S.C. 1311(a), and Defendant's SPDES and Concentrated Animal Feed Operations General Permits.

The Consent Decree provides for Defendant to pay a $150,000 civil penalty and to perform injunctive relief, including: (1) Implementing procedures to ensure that no discharges occur; (2) installing a “telemetry” system in manholes to alert employees of dry weather flows in the sewer system; and (3) creating a Web site page that makes stormwater-related information available to the public. Defendant implemented some injunctive relief prior to the lodging of the Consent Decree, including construction of special horse wash stalls that are connected to the sanitary sewer, and capping and disabling external hydrants that are located near storm drains. The Consent Decree further requires Defendant to implement a Supplemental Environmental Project at Defendant's Belmont Park Racetrack, comprising planting 62 trees, which will reduce future impacts of stormwater to Jamaica Bay, the same waterbody affected by Defendant's violations at Aqueduct Racetrack. The Consent Decree resolves the civil claims of the United States for the violations alleged in the complaint through the date of lodging of the Consent Decree.

The publication of this notice opens a period for public comment on the Consent Decree. Comments should be addressed to the Assistant Attorney General, Environment and Natural Resources Division, and should refer to United States v. The New York Racing Association, Inc. D.J. Ref. No. 90-5-1-1-11540. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $21.25 (25 cents per page reproduction cost) payable to the United States Treasury. For a paper copy without the exhibits and signature pages, the cost is $10.25.

Jeffrey Sands,
Assistant Section Chief, Environmental Enforcement Section, Environment and Natural Resources Division.

[FR Doc. 2016-24292 Filed 10-6-16; 8:45 am]

BILLING CODE 4410-15-P